OFFICE OF THE DIRECTOR OF NATIONAL INTELLIGENCE

Notice of Meeting; National Intelligence University Board of Visitors

AGENCY: National Intelligence University (NIU), Office of the Director of National Intelligence (ODNI).

ACTION: Notice of meeting.

SUMMARY: The ODNI is publishing this notice to announce that the following Federal Advisory Committee meeting of the National Intelligence University Board of Visitors will take place. This meeting is closed to the public. This notice is being published less than 15 days prior to the meeting date due to administrative delays.

DATES: Wednesday March 29, 2023, 8:30 a.m. to 4 p.m., Bethesda, MD.

ADDRESSES: National Intelligence University, 4600 Sangamore Road Bethesda, MD 20816.

FOR FURTHER INFORMATION CONTACT: Ms. Patricia “Patty” Larsen, Designated Federal Officer, (301) 243-2118 (Voice), excom@odni.gov (email). Mailing address is National Intelligence University, 4600 Sangamore Road, Bethesda, MD 20816. Website: http://niu.edu/wp/about-niu/leadership-2/board-of-visitors/.

SUPPLEMENTARY INFORMATION: This meeting is being held under the provisions of the Federal Advisory Committee Act (FACA) of 1972 (5 U.S.C., Appendix, as amended), the Government in the Sunshine Act of 1976 (“the Sunshine Act”) (5 U.S.C. 552b, as amended), and 41 CFR 102-3.140 and 102-3.150. The meeting includes the discussion of classified information and classified materials regarding intelligence education issues and the Director of National Intelligence, or her designee, in consultation with the ODNI Office of General Counsel, has determined the meeting will be closed to the public under the exemptions set forth in 5 U.S.C. 552b(c)(1) and 552b(c)(2).

I. Purpose of the Meeting: The Board will discuss critical issues and advise the Director of National Intelligence on controlled unclassified or classified information as defined in 5 U.S.C. 552b(c)(1) and discuss matters related solely to the internal personnel rules and practices of NIU under 5 U.S.C. 552b(c)(2) and therefore will be closed to the public.

II. Agenda: Welcome and Call to Order, President State of the University, Resources—Budget, Personnel, Facilities, Break for Lunch, Resources—Strategic Planning, Information Technology, Whole of Institution Assessment Data, and National Intelligence University Board of Visitors Executive Session.

III. Meeting Accessibility: The public or interested organizations may submit written statements to the National Intelligence University Board of Visitors about its mission and functions. Written statements may be submitted at any time or in response to the stated agenda of a planned meeting of the National Intelligence University Board of Visitors.

IV. Written Statements: All written statements shall be submitted to the Designated Federal Officer for the National Intelligence University Board of Visitors, and this individual will ensure that the written statements are provided to the membership for their consideration.

Robert A. Newton,
Committee Management Officer and Deputy Chief Operating Officer.

[FR Doc. 2023-05697 Filed 3-20-23; 8:45 am]

BILLING CODE P